DEPARTMENT OF HEALTH AND HUMAN SERVICES

Centers for Medicare and Medicaid Services

[Document Identifier: CMS-10084]

Emergency Clearance: Public Information Collection Requirements Submitted to the Office of Management and Budget (OMB)

AGENCY: Centers for Medicare and Medicaid Services.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. We cannot reasonably comply with the normal clearance procedures because public harm is likely to result if the normal clearance process followed. Waiting for the normal clearance process to be completed might mean that vulnerable, elderly or disabled Medicare beneficiaries in affected areas would have limited or no access to physician services for prolonged periods.

CMS is requesting OMB review and approval of this collection by March 1, 2003, with a 180-day approval period. Written comments and recommendations will be accepted from the public if received by the individuals designated below by February 19, 2003. During this 180-day period, we will publish a separate Federal Register notice announcing the initiation of an extensive 60-day agency review and public comment period on these requirements. We will submit the requirements for OMB review and an extension of this emergency approval.

Type of Information Collection Request: New collection; Title of Information Collection: Targeted Beneficiary Survey on Access to Physician Services Among Medicare Beneficiaries; Form No.: CMS-10084 (OMB# 0938-NEW); Use: Recent anecdotal reports have suggested that Medicare beneficiaries in certain parts of the country are having difficulty finding physicians who will accept new Medicare patients. In response to these anecdotes, CMS implemented a multi-faceted monitoring system that incorporated multiple data sources to address beneficiaries' reported access problems. As part of this monitoring strategy, CMS has designed a Targeted Survey on Access to Physician Services Among Medicare Beneficiaries. The survey is designed to interview 300 Medicare beneficiaries in each of 11 geographic areas where there is some evidence to suggest a potential physician access problem. The geographic areas include the state of Alaska; the Phoenix, Arizona area; the San Diego, California and San Francisco, California areas; the Denver, Colorado area; the Tampa, Florida area; the Springfield, Missouri area; the Las Vegas, Nevada area; the Brooklyn, New York area; the Fort Worth, Texas area; and the Seattle, Washington area. Survey respondents will be Medicare beneficiaries in the traditional Medicare program who are covered by part B where Medicare is the primary payer. The survey will over sample beneficiaries who are most likely to be seeking new physicians. The goal of the survey is to confirm or refute anecdotal reports that the Medicare payment restrictions are contributing to physician access problems. The survey will inform CMS about the characteristics of Medicare beneficiaries most likely to be experiencing physician access problems. It will enhance CMS's ability to consider the potential effects of payment changes on beneficiary access. Frequency: One-time; Affected Public: Individuals or households; Number of Respondents: 4,000; Total Annual Responses: 4,000; Total Annual Hours: 958.

We have submitted a copy of this notice to OMB for its review of these information collections.

To obtain copies of the supporting statement and any related forms for the proposed paperwork collections referenced above, access CMS's Web Site address at http://cms.hhs.gov/regulations/pra/default.asp, or E-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below, by February 19, 2003:

Centers for Medicare and Medicaid Services, Office of Strategic Operations and Regulatory Affairs, Division of Regulations Development and Issuances, Attention: Dawn Willinghan, CMS-10084, Room C5-14-03, 7500 Security Boulevard, Baltimore, Maryland 21244-1850

and,

Office of Information and Regulatory Affairs, Office of Management and Budget, Room 10235, New Executive Office Building, Washington, DC 20503, Fax Number: (202) 395-6974 or (202) 395-5167. Attn: Brenda Agular, CMS Desk Officer.

Dated: February 4, 2003.
Anthony Mazzarella,
Acting, Paperwork Reduction Act Team Leader, CMS Reports Clearance Officer, Office of Strategic Operations and Strategic Affairs, Division of Regulations Development and Issuances.

[FR Doc. 03-3447 Filed 2-11-03; 8:45 am]

BILLING CODE 4120-03-P